DEPARTMENT OF LABOR

Office of the Secretary

Submission for OMB Review; Comment Request

February 24, 2003.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by calling the Department of Labor. To obtain documentation contact Darrin King at (202) 693-4129 or e-mail King-Darrin@dol.gov.

Comments should be sent to Office of Information and Regulatory Affairs, Attn: OMB Desk Officer for PWBA, Office of Management and Budget, Room 10235, Washington, DC 20503 ((202) 395-7316), within 30 days from the date of this publication in the Federal Register.

The OMB is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and minimize the burden of the collection of information on those who are to respond, including through the use of appropriate automated, electronic, mechanical, or other technological collection techniques or other forms of information technology, e.g., permitting electronic submission of responses.

Type of Review: Extension of a currently approved collection.

Agency: Employee Benefits Security Administration (EBSA).

Title: National Medical Support Notice—Part B.

OMB Number: 1210-0113.

Affected Public: Business or other for-profit; Not-for-profit institutions; and Individuals or households.

Frequency: On occasion.

Type of Response: Third party disclosure.

Number of Respondents: 156,000.

Number of Annual Responses: 800,000.

Estimated Time Per Response: 1 hour and 47 minutes for small plans (fewer than 10 participants) and 37 minutes for plans with more than 10 participants.

Total Burden Hours: 530,614.

Total Annualized Capital/Startup Costs: $0.

Total Annual Costs (operating/maintaining systems or purchasing services): $1,216,000.

Description: Section 609 of ERISA and 29 CFR 2590.609-2 establish a National Medical Support Notice, Part B of which is used to implement coverage of children under ERISA covered group health plans pursuant to “Qualified Medical Child Support Orders.”

Darrin A. King,
Acting Departmental Clearance Officer.

[FR Doc. 03-5050 Filed 3-3-03; 8:45 am]

BILLING CODE 4510-23-M